COMMODITY FUTURES TRADING COMMISSION

17 CFR Parts 1, 15, 17, 19, 32, 37, 38, 140 and 150

RIN 3038-AD99

Position Limits for Derivatives

Correction

In proposed rule document 2013-27200 appearing on pages 75679 through 75842 in the issue of Thursday, December 12, 2013, Table 10 is corrected to appear as seen below.

Table 10—Open Interest and Calculated Limits by Core Futures Referenced Contract, January 1, 2011, to December 31, 2012
Commodity type | Core referenced futures contract | Year | Open interest (daily average) | Open interest (month end) | Limit (daily average) | Limit (month end) | Limit
Legacy Agricultural | CBOT Corn (C) | 2011 | 2,063,231 | 1,987,152 | 53,500 | 51,600 | 53,500
|  | 2012 | 1,773,525 | 1,726,096 | 46,300 | 45,100 |
| CBOT Oats (O) | 2011 | 15,375 | 15,149 | 1,600 | 1,600 | 1,600
|  | 2012 | 12,291 | 11,982 | 1,300 | 1,200 |
| CBOT Soybeans (S) | 2011 | 822,046 | 798,417 | 22,500 | 21,900 | 26,900
|  | 2012 | 997,736 | 973,672 | 26,900 | 26,300 |
| CBOT Soybean Meal (SM) | 2011 | 237,753 | 235,945 | 7,900 | 7,800 | 9,000
|  | 2012 | 283,304 | 281,480 | 9,000 | 9,000 |
| CBOT Soybean Oil (SO) | 2011 | 392,658 | 382,100 | 11,700 | 11,500 | 11,900
|  | 2012 | 397,549 | 388,417 | 11,900 | 11,600 |
| CBOT Wheat (W) | 2011 | 565,459 | 550,251 | 16,100 | 15,700 | 16,200
|  | 2012 | 572,068 | 565,490 | 16,200 | 16,100 |
| ICE Cotton No. 2 (CT) | 2011 | 275,799 | 272,613 | 8,800 | 8,700 | 8,800
|  | 2012 | 259,608 | 261,789 | 8,400 | 8,500 |
| KCBT Hard Winter Wheat (KW) | 2011 | 183,400 | 177,998 | 6,500 | 6,400 | 6,500
|  | 2012 | 155,540 | 155,074 | 5,800 | 5,800 |
| MGEX Hard Red Spring Wheat (MWE) | 2011 | 55,938 | 54,546 | 3,300 | 3,300 | 3,300
|  | 2012 | 40,577 | 40,314 | 2,900 | 2,900 |
Other Agricultural | CBOT Rough Rice (RR) | 2011 | 21,788 | 21,606 | 2,200 | 2,200 | 2,200
|  | 2012 | 15,262 | 14,964 | 1,600 | 1,500 |
| CME Milk Class III (DA) | 2011 | 55,567 | 57,490 | 3,300 | 3,400 | 3,400
|  | 2012 | 47,378 | 47,064 | 3,100 | 3,100 |
| CME Feeder Cattle (FC) | 2011 | 44,611 | 43,730 | 3,000 | 3,000 | 3,000
|  | 2012 | 44,984 | 43,651 | 3,000 | 3,000 |
| CME Lean Hog (LH) | 2011 | 284,211 | 288,281 | 9,000 | 9,100 | 9,400
|  | 2012 | 296,822 | 297,882 | 9,300 | 9,400 |
| CME Live Cattle (LC) | 2011 | 433,581 | 440,229 | 12,800 | 12,900 | 12,900
|  | 2012 | 409,501 | 417,037 | 12,200 | 12,400 |
| ICUS Cocoa (CC) | 2011 | 191,801 | 198,290 | 6,700 | 6,900 | 7,100
|  | 2012 | 202,886 | 206,808 | 7,000 | 7,100 |
| ICE Coffee C (KC) | 2011 | 174,845 | 176,079 | 6,300 | 6,300 | 7,100
|  | 2012 | 204,268 | 207,403 | 7,000 | 7,100 |
| ICE FCOJ-A (OJ) | 2011 | 37,347 | 36,813 | 2,900 | 2,800 | 2,900
|  | 2012 | 30,788 | 29,867 | 2,700 | 2,700 |
| ICE Sugar No. 11 (SB) | 2011 | 814,234 | 806,887 | 22,300 | 22,100 | 23,500
|  | 2012 | 855,375 | 862,446 | 23,300 | 23,500 |
| ICE Sugar No. 16 (SF) | 2011 | 11,532 | 11,662 | 1,200 | 1,200 | 1,200
|  | 2012 | 10,485 | 10,530 | 1,100 | 1,100 |
Energy | NYMEX Henry Hub Natural Gas (NG) | 2011 | 4,831,973 | 4,821,859 | 122,700 | 122,500 | 149,600
|  | 2012 | 5,905,137 | 5,866,365 | 149,600 | 148,600 |
| NYMEX Light Sweet Crude Oil (CL) | 2011 | 4,214,770 | 4,291,662 | 107,300 | 109,200 | 109,200
|  | 2012 | 3,720,590 | 3,804,287 | 94,900 | 97,000 |
| NYMEX NY Harbor ULSD (HO) | 2011 | 559,280 | 566,600 | 15,900 | 16,100 | 16,100
|  | 2012 | 473,004 | 485,468 | 13,800 | 14,100 |
| NYMEX RBOB Gasoline (RB) | 2011 | 362,349 | 370,207 | 11,000 | 11,200 | 11,800
|  | 2012 | 388,479 | 393,219 | 11,600 | 11,800 |
Metals | COMEX Copper (HG) | 2011 | 134,097 | 131,688 | 5,300 | 5,200 | 5,600
|  | 2012 | 148,767 | 147,187 | 5,600 | 5,600 |
| COMEX Gold (GC) | 2011 | 782,793 | 746,904 | 21,500 | 20,600 | 21,500
|  | 2012 | 685,618 | 668,751 | 19,100 | 18,600 |
| COMEX Silver (SI) | 2011 | 179,393 | 172,567 | 6,400 | 6,200 | 6,400
|  | 2012 | 165,670 | 164,064 | 6,100 | 6,000 |
| NYMEX Palladium (PA) | 2011 | 22,327 | 22,244 | 2,300 | 2,300 | 5,000
|  | 2012 | 23,869 | 24,265 | 2,400 | 2,500 |
| NYMEX Platinum (PL) | 2011 | 40,988 | 40,750 | 2,900 | 2,900 | 5,000
|  | 2012 | 54,838 | 54,849 | 3,300 | 3,300 |

[FR Doc. C1-2013-27200 Filed 12-18-13; 8:45 am]

BILLING CODE 1505-01-D